DEPARTMENT OF COMMERCE

National Oceanic and Atmospheric Administration

RIN 0648-XG21

Gulf of Mexico Fishery Management Council; Public Meetings

AGENCY: National Marine Fisheries Service (NMFS), National Oceanic and Atmospheric Administration (NOAA), Commerce.

ACTION: Notice of cancelation of public meetings.

SUMMARY: The Gulf of Mexico Fishery Management Council has canceled its Shrimp Advisory Panel (AP) meeting via conference call.

DATES: The Shrimp AP conference call will not be held March 31, 2008 at 10 a.m. e.s.t.

ADDRESSES: Meeting address: The meeting was to be held via conference call and listening stations are no longer available. For specific locations see SUPPLEMENTARY INFORMATION.

Council address: Gulf of Mexico Fishery Management Council, 2203 North Lois Avenue, Suite 1100, Tampa, Florida, 33607.

FOR FURTHER INFORMATION CONTACT: Rick Leard, Deputy Director, Gulf of Mexico Fishery Management Council; telephone: 813-348-1630.

SUPPLEMENTARY INFORMATION: The Gulf Council has canceled the conference call meeting of the Shrimp AP. The meeting published at 73 FR 13211, March 12, 2008, and it will not be rescheduled.

Dated: March 19, 2008.
Tracey L. Thompson,
Acting Director, Office of Sustainable Fisheries, National Marine Fisheries Service.

[FR Doc. E8-5864 Filed 3-21-08; 8:45 am]

BILLING CODE 3510-22-S